ENVIRONMENTAL PROTECTION AGENCY

[FRL-6942-9]

Proposed Administrative Cost Recovery Agreement Under CERCLA Section 122(h) for Recovery of Past Response Costs at the Onondaga Nation Drum Superfund Site, Onondaga Indian Nation Territory, Town of Nedrow, New York

AGENCY: Environmental Protection Agency.

ACTION: Notice; request for public comment.

SUMMARY: In accordance with section 122(i) of the Comprehensive Environmental Response, Compensation, and Liability Act of 1980, as amended (“CERCLA”), 42 U.S.C. 9622(i), notice is hereby given of a proposed administrative settlement, entered into pursuant to Section 122(h) of CERCLA, 42 U.S.C. 9622(h), for recovery of past response costs concerning the Onondaga Nation Drum Superfund Site (“Site”) located in Onondaga Indian Nation Territory, Town of Nedrow, New York. The settlement with the U.S. Environmental Protection Agency (“EPA”) is entered into with Aventis Cropscience USA, Inc. and Stauffer Management Company (“Settling Parties”). The Settling Parties have agreed to reimburse $100,000.00 of past response costs incurred by EPA with respect to the Site. This settlement includes a covenant not to sue the Settling Parties pursuant to section 107(a) of CERCLA, 42 U.S.C. 9607(a), for all costs that EPA paid at or in connection with the Site through the effective date of the agreement. For thirty (30) days following the date of publication of this notice, EPA will receive written comments relating to the settlement. The Agency will consider all comments received and may modify or withdraw its consent to the settlement if comments received disclose facts or considerations that indicate that the proposed settlement is inappropriate, improper, or inadequate. The Agency's response to any comments received will be available for public inspection at the EPA, Region II, 290 Broadway, New York, New York 10007-1866.

DATES: Comments must be submitted on or before March 14, 2001.

ADDRESSES: The proposed settlement is available for public inspection at the United States Environmental Protection Agency, Region II, 290 Broadway, New York, New York 10007-1866. A copy may be requested from Brian Carr, Assistant Regional Counsel, at the address listed below. Comments should be addressed to Brian Carr, and should reference the Onondaga Nation Drum Superfund Site located in Onondaga Indian Nation Territory, Town of Nedrow, New York, Docket No. CERCLA-02-2000-2022.

FOR FURTHER INFORMATION CONTACT: Brian Carr, Assistant Regional Counsel, New York/Caribbean Superfund Branch, Office of Regional Counsel, U.S. Environmental Protection Agency, 17th Floor, 290 Broadway, New York, New York 10007-1866. Telephone: 212-637-3170.

Dated: January 19, 2001.
William J. Muszynski,
Acting Regional Administrator, Region 2.

[FR Doc. 01-3505 Filed 2-9-01; 8:45 am]

BILLING CODE 6560-50-U